DEPARTMENT OF JUSTICE

[OMB Number 1117-0009]

Agency Information Collection Activities; Proposed eCollection eComments Requested; Extension of a Previously Approved Collection; Controlled Substances Import/Export Declaration

AGENCY: Drug Enforcement Administration, Department of Justice.

ACTION: 60-Day notice.

SUMMARY: The Drug Enforcement Administration (DEA), Department of Justice (DOJ), will be submitting the following information collection request to the Office of Management and Budget (OMB) for review and approval in accordance with the Paperwork Reduction Act of 1995.

DATES: Comments are encouraged and will be accepted for 60 days until November 13, 2023.

FOR FURTHER INFORMATION CONTACT: If you have additional comments especially on the estimated public burden or associated response time, suggestions, or need a copy of the proposed information collection instrument with instructions or additional information, please contact Scott A. Brinks, Regulatory Drafting and Policy Support Section, Drug Enforcement Administration; Mailing Address: 8701 Morrissette Drive, Springfield, Virginia 22152; Telephone: (571) 362-3261, Email: scott.a.brinks@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: DEA Form 236 enables DEA to monitor and control the importation and exportation of controlled substances. Analysis of these documents provides DEA with important intelligence regarding the international commerce in controlled substances and assists in the identification of suspected points of diversion.

Overview of This Information Collection

1. Type of Information Collection: Extension of a previously approved collection.

2. The Title of the Form/Collection: Controlled Substances Import/Export Declaration.

3. The agency form number, if any, and the applicable component of the Department sponsoring the collection: DEA Form 236. The Department of Justice component is the Drug Enforcement Administration, Office of Diversion Control.

4. Affected public who will be asked or required to respond, as well as the obligation to respond: Affected Public: Private Sector—businesses or other for-profit institution. The obligation to respond is mandatory per 21 CFR part 1312.

5. An estimate of the total number of respondents and the amount of time estimated for an average respondent to respond: DEA estimates that there are 379 total respondents for this information collection. In total, 379 respondents submit 11,435 responses. The time per response is 15 minutes to complete the DEA-236 Import (online), 15 minutes to complete the DEA-236 Export (online), 10.2 minutes to complete the DEA-236 Import (paper), and 10.2 minutes to complete the DEA-236 Export (paper).

6. An estimate of the total annual burden (in hours) associated with the collection: DEA estimates that this collection takes 2,818 annual burden hours.

7. An estimate of the total annual cost burden associated with the collection, if applicable: $10,023.

Total Burden Hours
Activity | Number of respondents | Frequency | Total annual responses | Time per response | Total annual burden (hours)
DEA-236 Import (Online) | 211 | 30 | 6,399 | 15 | 1,600
DEA-236 Export (Online) | 135 | 33 | 4,522 | 15 | 1,131
DEA-236 Import (Paper) | 8 | 4 | 35 | 10.2 | 6
DEA-236 Export (Paper) | 25 | 19 | 479 | 10.2 | 81
Unduplicated Totals | 379 | 30 | 11,435 | 14.78424136 | 2,818

If additional information is required contact: Darwin Arceo, Department Clearance Officer, United States Department of Justice, Justice Management Division, Policy and Planning Staff, Two Constitution Square, 145 N Street NE, 4W-218, Washington, DC.

Dated: September 5, 2023.
Darwin Arceo,
Department Clearance Officer for PRA, U.S. Department of Justice.

[FR Doc. 2023-19537 Filed 9-8-23; 8:45 am]

BILLING CODE 4410-09-P